DEPARTMENT OF COMMERCE

Foreign-Trade Zones Board

Order No. 1489

Expansion of Foreign-Trade Zone 231, Stockton, California, Area

Pursuant to its authority under the Foreign-Trade Zones Act of June 18, 1934, as amended (19 U.S.C. 81a-81u), the Foreign-Trade Zones Board (the Board) adopts the following Order:

Whereas, the Stockton Port District, grantee of Foreign-Trade Zone 231, submitted an application to the Board for authority to expand FTZ 231-Site 2 to include additional acreage and to expand the zone to include additional sites in Stockton and Tracy, California, within and adjacent to the San Francisco/Oakland/Sacramento Customs port of entry (FTZ Docket 25-2006; filed 6/14/06);

Whereas, notice inviting public comment was given in the Federal Register (71 FR 35610, 6/21/06) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 231 is approved, subject to the Act and the Board's regulations, including Section 400.28, and further subject to the Board's standard 2,000-acre activation limit for the overall general-purpose zone project.

Signed at Washington, DC, this 9th day of November 2006.

David M. Spooner,
Assistant Secretary of Commerce for Import Administration, Alternate Chairman, Foreign-Trade Zones Board
Attest:
Pierre V. Duy,
Acting Executive Secretary.

[FR Doc. E6-19665 Filed 11-20-06; 8:45 am]

BILLING CODE 3510-DS-S